DEPARTMENT OF COMMERCE

National Oceanic and Atmospheric Administration

50 CFR Part 660

[Docket No. 010108006-1198-03; I.D. 050101D]

RIN 0648-A097

Fisheries off West Coast States and in the Western Pacific; Pacific Coast Groundfish Fishery; Amendment 14; Corrections

AGENCY: National Marine Fisheries Service (NMFS), National Oceanic and Atmospheric Administration (NOAA), Commerce.

ACTION: Corrections to final rule for Amendment 14.

SUMMARY: This document corrects a section heading and a phrase in amendatory instruction 6 to the Amendment 14 final rule which was published on August 7, 2001. Amendment 14 creates a permit stacking program for limited entry permits with sablefish endorsements. This permit stacking program will lengthen the duration of the limited entry, fixed gear primary sablefish fishery. It is intended to increase safety in that fishery, to provide flexibility to participants, and to reduce capacity in the limited entry fixed gear fleet.

DATES: Effective August 2, 2001.

FOR FURTHER INFORMATION CONTACT: Yvonne deReynier, NMFS,(206) 526-6140.

SUPPLEMENTARY INFORMATION:

Background

The final rule implementing Amendment 14 was published in the Federal Register on August 7, 2001, contained an incorrect heading for § 660.333 and an incorrect amendatory instruction section to § 660.334(d)(1). Paragraph (d)(1) was revised instead of (d)(1)introductory text. As a result of this action, the subordinate paragraphs were removed. This document corrects the instruction, and the subordinate paragraphs to § 660.334(d)(1) will be restored to the CFR.

Corrections

As published, the final rule FR Doc. 01-19769, August 7, 2001, (66 FR 41152), contains errors and needs to be corrected.

§ 660.333 Limited entry fishery—eligibility and registration.

1. On page 41158, in the first column, under § 660.333, the section heading is corrected to read as set forth above.

§ 660.334 [Corrected]

2. On page 41158, in the first column, in amendatory instruction 6, in the second line, the phrase “(d)(1)” is corrected to read “(d)(1) introductory text.”

All other information previously published remains the same.

Dated: August 23, 2001.
John Oliver,
Acting Assistant Administrator for Fisheries, National Marine Fisheries Service.

[FR Doc. 01-21859 Filed 8-29-01; 8:45 am]

BILLING CODE 3510-22-S